DEPARTMENT OF AGRICULTURE

Forest Service

John Day/Snake Resource Advisory Council, Hells Canyon Subgroup

AGENCY: Forest Service, USDA.

ACTION: Notice of meeting.

SUMMARY: The Hells Canyon Subgroup of the John Day/Snake Resource Advisory Council will meet on June 15-16, 2001 at the Wallowa Mountains Visitors Center, 88401 Hwy 82, Enterprise, OR 97828. The meeting will begin at 10 a.m. and continue until 5 p.m. the first day and day 2 will begin at 8 a.m and will be a field trip to the Buckhorn Lookout Area. Agenda items to be covered include: (1) Update on CMP (2) Review of the fires on the NRA in 2000. Public comments will be received June 15, 2001 at 1:30 p.m. at the Wallowa Mountains Visitors Center.

FOR FURTHER INFORMATION CONTACT: Direct questions regarding this meeting to Kendall Clark, Area Ranger, USDA, Hells Canyon National Recreation Area, 88401 Highway 82, Enterprise, OR 97828, 541-426-5501.

Dated: May 30, 2001.
Karyn L. Wood,
Forest Supervisor.

[FR Doc. 01-14048 Filed 6-5-01; 8:45 am]

BILLING CODE 3410-11-M